DEPARTMENT OF TRANSPORTATION

Research & Innovative Technology Administration

[Docket No. RITA-2005-23342]

Agency Information Collection; Activity Under OMB Review; Part 249 Preservation of Records

AGENCY: Research & Innovative Technology Administration (RITA), Bureau of Transportation Statistics (BTS), DOT.

ACTION: Notice.

SUMMARY: In compliance with the Paperwork Reduction Act of 1995, Public Law 104-13, (44 U.S.C. 3501 et seq.) this notice announces that the Information Collection Request, abstracted below, is being forwarded to the Office of Management and Budget for extension of currently approved record retention requirements. Earlier, a Federal Register Notice with a 60-day comment period was published on February 3, 2006 (71 FR 5903). The agency did not receive any comments to its previous notice.

DATES: Written comments should be submitted by May 31, 2006.

FOR FURTHER INFORMATION CONTACT: Bernie Stankus, Office of Airline Information, RTS-42, Room 4125, RITA, BTS, 400 Seventh Street, SW., Washington, DC 20590-0001, Telephone Number (202) 366-4387, Fax Number (202) 366-3383 or e-mail bernard.stankus@dot.gov.

Comments: Comments should be sent to OMB at the address that appears below and should identify the associated OMB Approval Number 2138-0006 and Docket RITA-2005-23342.

SUPPLEMENTARY INFORMATION: OMB Approval No.: 2138-0006.

Title: Preservation of Air Carrier Records—14 CFR Part 249 .

Form No.: None.

Type Of Review: Extension of a currently approved recordkeeping requirement.

Respondents: Certificated air carriers and charter operators.

Number of Respondents: 120 certificated air carriers. 300 charter operators.

Estimated Time per Response: 3 hours per certificated air carrier. 1 hour per charter operator.

Total Annual Burden: 660 hours.

Needs and Uses: Part 249 requires the retention of records such as: General and subsidiary ledgers, journals and journal vouchers, voucher distribution registers, accounts receivable and payable journals and legers, subsidy records documenting underlying financial and statistical reports to DOT, funds reports, consumer records, sales reports, auditors' and flight coupons, air waybills, etc. Depending on the nature of the document, the carrier may be required to retain the document for a period of 30 days to 3 years. Public charter operators and overseas military personnel charter operators must retain documents which evidence or reflect deposits made by each charter participant and commissions received by, paid to, or deducted by travel agents, and all statements, invoices, bills and receipts from suppliers or furnishers of goods and services in connection with the tour or charter. These records are retained for 6 months after completion of the charter program.

Not only is it imperative that carriers and charter operators retain source documentation, but it is critical that we ensure that DOT has access to these records. Given DOT's established information needs for such reports, the underlying support documentation must be retained for a reasonable period of time. Absent the retention requirements, the support for such reports may or may not exist for audit/validation purposes and the relevance and usefulness of the carrier submissions would be impaired, since the data could not be verified to the source on a test basis.

ADDRESSES: Send comments to the Office of Information and Regulatory Affairs, Office of Management and Budget, 715-17th Street, NW., Washington, DC 20503, Attention RITA Desk Officer.

Comments are invited on whether the proposed retention of records is necessary for the proper performance of the functions of the Department of Transportation.

Issued in Washington, DC, on April 25, 2006.
Donald W. Bright,
Assistant Director, Airline Information, Bureau of Transportation Statistics.

[FR Doc. E6-6512 Filed 4-28-06; 8:45 am]

BILLING CODE 4910-HY-P